NUCLEAR REGULATORY COMMISSION

[Docket No. 50-382; NRC-2016-0078]

Entergy Operations, Inc.; Waterford Steam Electric Station, Unit 3

AGENCY: Nuclear Regulatory Commission.

ACTION: Final supplemental environmental impact statement; issuance.

SUMMARY: The U.S. Nuclear Regulatory Commission (NRC) is issuing a final plant-specific Supplement 59 to the Generic Environmental Impact Statement (GEIS) for License Renewal of Nuclear Plants, NUREG-1437, regarding the renewal of operating license NPF-38 for an additional 20 years of operation for Waterford Steam Electric Station, Unit 3 (WF3). The WF3 is located near Killona, St. Charles Parish, Lousiana.

DATES: The supplemental environmental impact statement referenced in this document is available on November 23, 2018.

ADDRESSES: Please refer to Docket ID NRC-2016-0078 when contacting the NRC about the availability of information regarding this document. You may obtain publicly-available information related to this document using any of the following methods:

• Federal Rulemaking website: Go to http://www.regulations.gov and search for Docket ID NRC-2016-0078. Address questions about NRC dockets to Jennifer Borges; telephone: 301 287-9127: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 59 to the GEIS is available in ADAMS under Accession No. ML18323A103.

• NRC's PDR: You may examine and purchase copies of public documents at the NRC's PDR, Room O1-F21, One White Flint North, 11555 Rockville Pike, Rockville, Maryland 20852.

FOR FURTHER INFORMATION CONTACT: Elaine Keegan, Office of Nuclear Reactor Regulation, U.S. Nuclear Regulatory Commission, Washington, DC 20555-0001; telephone: 301-415-8517, email: Elaine.Keegan@nrc.gov.

SUPPLEMENTARY INFORMATION:

I. Background

In accordance with § 51.118 of title 10 of the Code of Federal Regulations, the NRC is issuing the final Supplement 59 to the GEIS regarding the renewal of Entergy Operations, Inc. operating license NPF-38 for an additional 20 years of operation for WF3. Draft Supplement 59 to the GEIS was noticed by the NRC in the Federal Register on August 23, 2018 (83 FR 42713), and noticed by the Environmental Protection Agency on August 24, 2018 (83 FR 42892). The public comment period on draft Supplement 59 to the GEIS ended on October 9, 2018, and the comments received are addressed in final Supplement 59 to the GEIS.

II. Discussion

As discussed in Chapter 5 of the final Supplement 59 to the GEIS, the NRC determined that the adverse environmental impacts of license renewal for WF3 are not so great that preserving the option of license renewal for energy-planning decisionmakers would be unreasonable. This recommendation is based on: (1) The analysis and findings in the GEIS; (2) information provided in the environmental report and other documents submitted by Entergy Operations Inc.; (3) consultation with Federal, State, local, and Tribal agencies; (4) the NRC staff's independent environmental review; and (5) consideration of public comments received during the scoping process and on the draft supplemental environmental impact statement.

Dated at Rockville, Maryland, this 20th day of November, 2018.
For the Nuclear Regulatory Commission.
Emmanuel C. Sayoc,
Acting Chief, License Renewal Projects Branch, Division of Materials and License Renewal, Office of Nuclear Reactor Regulation.

[FR Doc. 2018-25695 Filed 11-23-18; 8:45 am]

BILLING CODE 7590-01-P